DEPARTMENT OF THE INTERIOR

National Park Service

Notice of Intent to Repatriate Cultural Items: Peabody Essex Museum, Salem, MA

AGENCY: National Park Service, Interior.

ACTION: Notice.

Notice is here given in accordance with the Native American Graves Protection and Repatriation Act (NAGPRA), 25 U.S.C. 3005, of the intent to repatriate cultural items in the possession of the Peabody Essex Museum, Salem, MA, that meet the definitions of sacred objects and cultural patrimony under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

The 20 cultural items are 2 masks, 2 cornhusk masks, 3 miniature masks, 4 feather wands, 2 turtle rattles, 2 gourd rattles, 2 wooden forks, 1 drum stick, 1 water drum and stick, and 1 wampum message stick.

In December 1944, the Peabody Essex Museum received a mask (Accession E24970) that Ernest Dodge had purchased in October 1944. Museum records indicate that the mask was collected from the Six Nations Reserve, Ontario, Canada.

In 1949, the Peabody Essex Museum received a mask (Accession E27945) as an exchange with Dr. Frank G. Speck. Museum records indicate that the mask was collected from the Six Nations Reserve, Ontario, Canada.

In December 1944, the Peabody Essex Museum received a cornhusk mask (Accession E24971) that Ernest Dodge had purchased in October 1944. Museum records indicate that the mask was collected from the Six Nations Reserve, Ontario, Canada.

On August 22, 1946, the Peabody Essex Museum purchased a cornhusk mask (Accession E26299) from Dr. Frank G. Speck. Museum records indicate that the mask was collected from the Six Nations Reserve, Ontario, Canada.

On December 28, 1944, the Peabody Essex Museum purchased three miniature masks (Accessions E25197, E25198, and E25199) from Dr. Frank G. Speck, who had collected the masks in or about 1932 from the Six Nations Reserve, Ontario, Canada.

On December 28, 1944, the Peabody Essex Museum received three feather wands (Accession E25205) from Dr. Frank G. Speck, who had collected the wands at an unknown date from the Six Nations Reserve, Ontario, Canada.

On September 8, 1948, the Peabody Essex Museum received a feather wand (Accession E27760) from Dr. Frank G. Speck, who had collected the wand at an unknown date from the Six Nations Reserve, Ontario, Canada.

On December 28, 1944, the Peabody Essex Museum purchased a turtle rattle (Accession E25206) from Dr. Frank G. Speck, who had obtained the rattle in or about 1933 from the Six Nations Reserve, Ontario, Canada.

In December 1944, the Peabody Essex Museum received a turtle rattle (Accession E24972) that Ernest S. Dodge had purchased in October 1944. Museum records indicate that the rattle was collected from the Six Nations Reserve, Ontario, Canada.

On December 22, 1944, the Peabody Essex Museum received a gourd rattle (Accession E24984)

that Ernest S. Dodge had purchased in October 1944. Museum records indicate that the rattle was collected from the Six Nations Reserve, Ontario, Canada.

On May 10, 1961, the Peabody Essex Museum received a gourd rattle (Accession E37486) as a gift from Mrs. Sterling H. Pool. Records of the donor note that the origin of the rattle is “Cayuga, Can."

On December 28, 1944, the Peabody Essex Museum purchased two wooden forks (Accession E25203) from Dr. Frank G. Speck, who had obtained the forks in 1935 from the Six Nations Reserve, Ontario, Canada.

On December 28, 1944, the Peabody Essex Museum purchased a drum stick (Accession E25217) from Dr. Frank G. Speck, who had obtained the drum stick on an unknown date from the Six Nations Reserve, Ontario, Canada.

At an unknown date, the Peabody Essex Museum purchased a water drum and stick (Accession E25216) from Dr. Frank G. Speck, who had obtained the drum and stick in 1945 from the Six Nations Reserve, Ontario, Canada.

Evidence presented during consultation by representatives of the Cayuga Nation of New York and museum documentation indicate that the cultural items are specific ceremonial objects needed by traditional Native American religious leaders for the practice of traditional Native American religions by their present-day adherents.

The Cayuga people have, over time, moved, and today live in three main areas: in and around Versailles, NY; at the Six Nations Reserve in Ontario, Canada; and at the Seneca-Cayuga Reservation in Oklahoma. The Cayuga Nation of New York has informed the Peabody Essex Museum that the tribe may act on behalf of the Cayuga community of Canada in this matter.

Officials of the Peabody Essex Museum have determined that, pursuant to 25 U.S.C. 3001 (3)(C), the 19 cultural items described above are specific ceremonial objects needed by traditional Native American religious leaders for the practice of traditional Native American religions by their present-day adherents. Officials of the Peabody Essex Museum also have determined that, pursuant to 25 U.S.C. 3001 (2), there is a relationship of shared group identity that can be reasonably traced between the sacred objects and the Cayuga Nation of New York.

On December 28, 1944, the Peabody Essex Museum (then the Peabody Museum) purchased a wampum message stick (Accession E25262) from Dr. Frank G. Speck, who had obtained the message stick in 1945 from the Six Nations Reserve, Ontario, Canada. The item consists of a small wooden stick to which are attached four shell wampum beads and a piece of red ribbon. Museum records indicate that the object is Cayuga.

Evidence presented during consultation by representatives of the Cayuga Nation of New York and museum documentation indicate that the cultural item has ongoing historical, traditional, and cultural importance central to the tribe itself, and could not have been alienated by any individual tribal member.

The Cayuga people have, over time, moved, and today live in three main areas: in and around Versailles, NY; at the Six Nations Reserve in Ontario, Canada; and at the Seneca-Cayuga Reservation in Oklahoma. The Cayuga Nation of New York has informed the Peabody Essex Museum that the tribe may act on behalf of the Cayuga community of Canada in this matter.

Officials of the Peabody Essex Museum have determined that, pursuant to 25 U.S.C. 3001 (3)(D), the one cultural item described above has ongoing historical, traditional, or cultural importance central to the Native American group or culture itself, rather than property owned by an individual, and could not have been alientaed, appropriated, or conveyed by any individual. Officials of the Peabody Essex Museum also have determined that, pursuant to 25 U.S.C. 3001 (2), there is a relationship of shared group identity that can be reasonably traced between the object of cultural patrimony and the Cayuga Nation of New York.

Representatives of any other Indian tribe that believes itself to be culturally affiliated with the sacred objects or object of cultural patrimony should contact John R. Grimes, Curator of Native American Art and Culture, Peabody Essex Museum, East India Square, Salem, MA 01970, telephone (978) 745-9500, before November 21, 2003. Repatriation of the sacred objects and object of cultural patrimony to the Cayuga Nation of New York may proceed after that date if no additional claimants come forward.

The Peabody Essex Museum is responsible for notifying the Cayuga Nation of New York and Seneca-Cayuga Tribe of Oklahoma that this notice has been published.

Dated: August 27, 2003.
John Robbins,
Assistant Director, Cultural Resources.

[FR Doc. 03-26580 Filed 10-21-03; 8:45 am]

BILLING CODE 4312-50-S